POSTAL RATE COMMISSION

[Docket No. R2000-1; Order No. 1279]

Notice and Order on Omnibus Postal Rate, Fee and Classification Case

AGENCY: Postal Rate Commission.

ACTION: Notice and order on omnibus postal rate, fee and classification case.

SUMMARY: This document advises the public that the Postal Service has filed a request with the Postal Rate Commission seeking approval of proposed postal rate and classification changes. The changes affect all classes and services of mail. It also announces the Commission's initiation of a docket to consider the request. The document also identifies key dates related to the docket.

DATES: See SUPPLEMENTARY INFORMATION section for dates.

ADDRESSES: Send correspondence concerning this document to Margaret P. Crenshaw, Secretary, Postal Rate Commission, 1333 H Street NW., Suite 300, Washington, DC 20268-0001.

FOR FURTHER INFORMATION CONTACT: Stephen L. Sharfman, General Counsel, Postal Rate Commission, 202-789-6820.

SUPPLEMENTARY INFORMATION: The Postal Rate Commission issued the following order on January 14, 2000. Due to an oversight, it was not published at that time.

I. Filing of an Omnibus Rate and Classification Request

On January 12, 2000, the United States Postal Service filed a request with the Postal Rate Commission for a recommended decision on proposed changes in domestic postage rates and fees and in certain mail classifications. The Service's action was taken pursuant to sections 3622 and 3623 of the Postal Reorganization Act (39 U.S.C. 3622, 3623). The Service also filed several contemporaneous motions and notices related to its request.

The Service's rate proposals affect all classes of mail and all special services. They are based on key assumptions regarding costs, volumes, pricing and, in some instances, on proposed reclassifications and anticipated legislative changes. Given these assumptions, the Service's rate proposal reflects, on average, an increase of 6.4 percent; however, percentage increases vary—sometimes significantly—by class, subclass and category. Moreover, some rates or fees remain the same or decrease under the Service's proposal. The Service's classification proposals affect most classes of mail and special services. In addition, the Service is proposing a general revision of the special services sections of the domestic mail classification schedule (DMCS).

This notice provides a general overview of the Service's filing. Persons interested in learning how the Service's proposal affects their interests are advised to review the Service's filing in detail.

Reason for filing request; proposed base year and test year. The Service asserts that without the requested changes, it would incur a substantial revenue deficiency (of more than $3.6 billion) in the proposed test year (FY 2001), in contravention of 39 U.S.C. 3621 (the “break-even requirement”). The Service estimates that its proposal will reduce that revenue deficiency to approximately $21.8 million. The base year for Postal Service cost projections is 1998.

Anticipated implementation date. The Service's filing triggers an administrative process which, given due process considerations, can entail up to ten months of consideration at the Commission and additional time for the Governors of the Postal Service to review the Commission's recommendations. Accordingly, the Postal Service indicates that its intention is to implement new rates in January 2001.

II. Contents of Service's Filing

The Service's filing includes its formal request, seven attachments, and 41 pieces of testimony, presented by 40 witnesses. The testimony is supported, in many instances, by exhibits, workpapers and library references. The Service's filing includes the following attachments: attachment A (reproduced as attachment A to this order) identifies requested changes in the DMCS. Attachment B (reproduced as attachment B to this order) presents a comparison of current and proposed rates and fees. Attachment C (addressing Commission rule 54(b)(2)) specifies the rules, regulations and practices that establish standards of service and conditions of mailability by reference to the contents of the domestic mail manual. Attachment D is the certification, required by rule 54(p), concerning the accuracy of cost statements and other documentation submitted with the request. Attachment E contains audited financial statements. Attachment F provides an index identifying witnesses by name, testimony, exhibits and workpapers by number, and the name and telephone number of the witness's attorney. Attachment G contains a compliance statement addressing pertinent provisions of Commission rules 54 and 64. In the statement, the Service refers to a separate notice relating to the alternate cost presentation required under the rules. See January 12, 2000 notice of the Postal Service concerning provision of information pursuant to rule 54(a)(1).

III. Related Motions and Notices

The Service's request was accompanied by the following notices and motions: notice regarding attorney/witness assignments; notice of filing of master list of library references, and notices for LR-I-152 and LR-I-153; motion for waiver and for protective conditions for analysis of witness Yezer; motion requesting waiver of the new Commission rules with respect to category 1 library references; motion requesting waiver of the new Commission rules with respect to category 2 library references; motion requesting waiver of the new Commission rules with respect to category 3 library references; motion requesting waiver of the new Commission rules with respect to category 5 library references; and notice concerning provision of information pursuant to Commission rule 54(a)(1) (all filed January 12, 2000).

Answers to the motion for protective conditions are to be submitted on or before February 14, 2000.

The Postal Service's motions for waiver of the application of the new library reference rule will be discussed at the prehearing conference.

IV. Availability of the Service's Filing

The Commission has posted the Service's filing on its website (www.prc.gov). The filing and library references are available for public inspection in the Commission's docket section. Docket section hours are 8 a.m. to 4:30 p.m. Monday through Friday, except for government holidays. For information about reviewing the filing at the Commission or accessing it via the website, telephone 202-789-6846.

V. Summary of Proposed Rate and Fee Changes

The Service proposes a one-cent increase in the price of the First-Class stamp. This raises the rate for the first ounce of single-piece First-Class Mail (FCM) from 33 cents to 34 cents. The Service also proposes a one-cent increase in the additional-ounce rate, increasing it from 22 to 23 cents. The single-piece card rate would increase by one cent, to 21 cents. The Service's proposals for other rates and fees appear in attachment A to this order.

Materials accompanying the Postal Service request indicate average percentage changes for the classes of mail that appear in the list below (derived from USPS-T-32). Some of the figures presented in the list are based on the Service's assumptions regarding restructuring and legislative changes. Rates proposed for nonprofit mailers presume enactment of changes to existing laws that have not been reported by a committee of either house of Congress. Further details are available in the Service's filing.

FCM (letters and sealed parcels). Average subclass-wide increase: 3.5 percent; single-piece letters: 3.4 percent increase; work-shared letters: 3.8 percent increase.

Cards. Average subclass-wide increase 5.0 percent; single-piece cards: 4.9 percent; workshared cards: 5.2 percent.

Priority Mail. 15% increase.

Express Mail: 3.8% increase.

Periodicals. Within county: 8.5% increase; outside county: 12.7% increase.

Standard mail (A). Regular subclass: 9.4% increase; Enhanced Carrier Route (ECR): 4.9% increase; nonprofit subclass: 5.6% increase; Nonprofit ECR: 14.8% increase.

Standard mail (B): Parcel Post: 1.3% increase; Bound Printed Matter: 18.1% increase; Special: 4.9% increase; Library: 4.5% increase.

Special services and fees. The percentage changes for special services and for various fees (such as annual permits or advance deposit accounts) vary widely. See attachment B for comparisons of current and proposed rates and fees.

VI. Summary of the Service's Proposed Classification Changes

Materials accompanying the Postal Service request indicate that major proposed classification changes include the following:

FCM. The Service proposes one change in the FCM rate structure. The change, which affects automation rate flats, would separate the combined 3/5-digit category for flats into discrete 3- and 5-digit tiers.

Periodicals. The Service proposes combining three of the four current Periodicals subclasses into one subclass, which would be referred to as “outside county.”

Standard mail. For parcels within what is generally referred to as Standard (A) mail (regular, ECR, nonprofit and nonprofit ECR), the Service proposes extending a parcel barcode discount. The Service also proposes extending the following special services to these parcels: delivery confirmation, return receipt for merchandise, and bulk insurance service. The Service proposes renaming Standard (B) as Package Services, renaming Special Standard as Media Mail and renaming destination-entered parcel post as Parcel Select. Parcel post intra- and inter-Bulk Mail Center (BMC) would continue to be called Parcel Post. The Service also proposes allowing pieces weighing less than one pound in all Standard Mail subclasses; and, the elimination of local rates and adding destination drop shipping discounts for Bound Printed Matter. New nonmachinable surcharges would apply to Parcel Select-DBMC and intra-BMC parcels.

Special services. In addition to a general rewrite of the DMCS sections on special services, the Service proposes a major restructuring of the fee structure for post office boxes, elimination of the merchandise return service fee, and extension of several special services to Standard Mail (A) parcels. A quarterly fee option would be added for users of Qualified Business Reply Mail (QBRM).

VII. Institution of Proceedings

The Commission hereby institutes proceedings to consider the Postal Service's request, which has been assigned docket no. R2000-1. The Commission will issue additional notices regarding this case as needed.

A. Nature of Proceedings; Possibility That the Commission's Recommendation May Differ From the Service's Proposed Changes

Proceedings in this docket will address, in the first instance, the specific changes in current postal rates, fees and classification provisions the Service has proposed. The Commission will also receive evidence sponsored by other interested participants, including the Commission's office of the consumer advocate (OCA), responding to the Postal Service's proposed changes and its supporting evidence. These presentations may include alternative rate, fee and mail classification proposals.

After public hearings and the submission of briefs from the Postal Service and other participants, the Commission will consider all proposals advanced and arguments made. Depending upon its assessment of the public policies and statutory factors mandated by the Postal Reorganization Act, the Commission may or may not recommend the same array of rate, fee and mail classification changes the Service requests, or that are proposed in the direct cases of other participants. To accommodate applicable statutory considerations, while observing the technical constraints of setting rates and fees for all postal services, the Commission may recommend a schedule of postal rates and fees that differ from those proposed by the Postal Service and other participants. In addition, the Commission may decline to recommend proposed classifications, but address their objectives through other recommended adjustments in classifications, or rates or fees for existing mail categories.

B. Participation: Full, Limited and Commenter Status

Commission rules recognize three main types of participation in Commission proceedings: full, limited or commenter status. Formal intervention in hearings on the Postal Service's request generally takes the form of full intervention; however, the status of limited intervention is also available under certain circumstances. Persons intending to seek either full or limited status must file a notice of intervention that complies with Commission rules. These rules require certain information and representations, such as whether the intervenor intends to actively participate in the proceeding. Commenter status is available to those wishing to express their views informally. This status does not require a notice of intervention or compliance with the Commission's evidentiary rules. Other distinctions among the forms of participation are explained in Commission rules 20, 20a and 20b. (39 CFR 3001.20, 20a and 20b.) Questions about the interpretation and application of these rules should be directed to the Commission's office of general counsel at 202-789-6820.

Other information regarding intervention. Notices of intervention should be sent to the attention of Margaret P. Crenshaw, Secretary of the Commission, 1333 H Street NW., Suite 300, Washington, DC 20268-0001. Intervenors are asked to include with their notice a telephone number, facsimile number and, if available, an e-mail address. Upon intervention, participants may submit formal discovery or contact the Postal Service to request an informal technical conference. The deadline for intervention is February 14, 2000.

C. Representation of Interests of the General Public

The Commission designates Ted P. Gerarden, director of the Commission's office of the consumer advocate (OCA), to represent the interests of the general public in this proceeding pursuant to 39 U.S.C. 3624(a). Mr. Gerarden shall direct the activities of Commission personnel assigned to assist him and, at an appropriate time, provide the names of these employees for the record. Neither Mr. Gerarden nor the assigned personnel shall participate in or advise as to any Commission decision in this proceeding, other than in their designated capacity. Parties shall serve the OCA separately with three copies of all filings in addition to, and at the same time as, they effect service on the Commission.

D. Prehearing conference date; other scheduling matters.

The Commission will conduct this case with the utmost expedition consistent with the due process rights of all participants. A prehearing conference will be held Wednesday, February 16, 2000 at 9:30 a.m. in the Commission's hearing room. The hearing room is located on Commission premises at 1333 H Street NW, Suite 300, Washington, DC 20268-0001. Participants intending to raise topics for discussion at the prehearing conference are directed to file notice to that effect on or before February 14, 2000. Additional prehearing conferences will be scheduled if needed. The Commission will propose a comprehensive schedule in the near future.

In accordance with the Commission's goal of expeditious consideration, the Commission will conduct the prehearing conference and other hearings en banc (39 CFR 3001.30(b)). Unless otherwise indicated, all conferences and hearings will begin at 9:30 a.m. Hearings will be conducted on the record and will be transcribed by an official reporter, unless the presiding officer determines otherwise. Attendees who may require special accommodations to fully participate in the hearings should contact Margaret P. Crenshaw, secretary of the Commission, at 202-789-6840.

VIII. Effect of the Service's Request on Pending Matters

Several matters, including some docketed proceedings, are currently pending at the Commission. The Commission anticipates addressing the status of these matters and their impact, if any, on procedural and substantive aspects of the instant docket at the prehearing conference.

IX. Rules of Practice and Procedure

In the recent past, the Commission generally has used a set of special rules in omnibus proceedings. Adoption of many of the special rules on a permanent basis has been under consideration in docket no. RM98-3, which is one of the cases currently pending at the Commission. As completion of that docket is likely to occur in the near future, the Commission is not issuing a proposed set of special rules at this time. The rules governing this docket will be addressed at the prehearing conference. It is ordered:

1. The Commission will sit en banc in this proceeding.

2. Notices of intervention shall be filed on or before February 14, 2000.

3. Ted P. Gerarden, director of the Commission's office of the consumer advocate, is designated to represent the interests of the general public in this proceeding.

4. A prehearing conference will be held Wednesday, February 16, 2000. The hearing will begin at 9:30 a.m. in the Commission's hearing room, located at 1333 H Street NW., Suite 300, Washington, DC 20268-0001.

5. Participants intending to raise topics for discussion at the prehearing conference shall provide written notice on or before February 14, 2000.

6. Answers to the Service's motion for waiver and protective conditions for analysis of witness Yezer shall be filed on or before February 14, 2000.

7. The Secretary shall cause this notice and order to be published in the Federal Register.

Cyril J. Pittack,
Acting Secretary.

Schedules 121, 122, and 123 Notes

¹ The applicable 2-pound rate is charged for matter sent in a ‘flat rate’ envelope provided by the Postal Service.

² Add [$8.25] $10.25 for each pickup stop.

³ Add [$8.25] $10.25 for each Custom Designed delivery stop.

First-Class Mail
Rate Schedule 221
| Current rate (cents) | Proposed rate (cents)
Letters and Sealed Parcels
Regular:
Single Piece: First Ounce | 33.0 | 34.0
Presort ¹ | 30.5 | 32.0
Qualified Business Reply Mail | 30.0 | 31.0
Additional Ounce ² | 22.0 | 23.0
Nonstandard Surcharge:
Single Piece | 11.0 | 11.0
Presort | 5.0 | 5.0
Automation—Presort: ¹
Letters: ³
Basic Presort ⁴ | 27.0 | 28.0
3-Digit Presort ⁵ | 26.1 | 27.1
5-Digit Presort ⁶ | 24.3 | 25.3
Carrier Route Presort ⁷ | 23.8 | 24.8
Flats: ⁸
Basic Presort ⁹ | 30.0 | 31.0
[3/5-Digit Presort ¹⁰] | 27.0 | N/A
3-Digit Presort ¹⁰ | N/A | 29.5
5-Digit Presort ¹¹ | N/A | 27.5
Additional Ounce ² | 22.0 | 23.0
Nonstandard Surcharge | 5.0 | 5.0

Schedule 221 Notes

¹ A mailing fee of [$100.00] $125.00 must be paid once each year at each office of mailing by any person who mails other than Single Piece First-Class Mail. Payment of the fee allows the mailer to mail at any First-Class rate. For presorted mailing weighing more than 2 ounces, subtract 4.6 cents per piece.

² Rate applies through 13 ounces. Heavier pieces are subject to Priority Mail rates.

³ Rates apply to bulk-entered mailings of at least 500 letter-size pieces, which must be delivery point barcoded and meet other preparation requirements specified by the Postal Service and, for the Basic Presort rate, documents provided for entry as mail using Mailing Online service, pursuant to classification schedule 981.

⁴ Rate applies to letter-size Automation-Presort category mail not mailed at 3-Digit, 5-Digit, or Carrier Route rates.

⁵ Rate applies to letter-size Automation-Presort category mail presorted to single or multiple three-digit ZIP Code destinations specified by the Postal Service.

⁶ Rate applies to letter-size Automation-Presort category mail presorted to single or multiple five-digit ZIP Code destinations specified by the Postal Service.

⁷ Rate applies to letter-size Automation-Presort category mail presorted to carrier routes specified by the Postal Service.

⁸ Rates apply to bulk-entered mailings of at least 500 flat-size pieces, each of which must be delivery-point barcoded or bear a ZIP+4 barcode, and must meet other preparation requirements specified by the Postal Service and, for the Basic Presort rate, documents provided for entry as mail using Mailing Online service, pursuant to schedule 981.

⁹ Rate applies to flat-size Automation-Presort category mail not mailed at the [3/5-Digit] 3-Digit or 5-Digit rate.

¹⁰ Rate applies to flat-size Automation-Presort category mail presorted to single or multiple three-[and five-]digit ZIP Code destinations [as] specified by the Postal Service.

¹¹ Rate applies to flat-size Automation-Presort category mail presorted to single or multiple five-digit ZIP Code destinations specified by the Postal Service.

First-Class Mail
Rate Schedule 222
| Current rate (cents) | Proposed rate (cents)
Cards
Regular:
Single Piece | 20.0 | 21.0
Presort ¹ | 18.0 | 19.0
Qualified Business Reply Mail | 18.0 | 18.0
Automation—Presort:¹,²
Basic Presort ³ | 16.6 | 17.4
3-Digit Presort ⁴ | 15.9 | 16.7
5-Digit Presort ⁵ | 14.6 | 15.4
Carrier Route Presort ⁶ | 14.1 | 14.9

Schedule 222 Notes

¹ A mailing fee of [$100.00] $125.00 must be paid once each year at each office of mailing by any person who mails other than Single Piece First-Class Mail. Payment of the fee allows the mailer to mail at any First-Class rate.

² Rates apply to bulk-entered mailings of at least 500 pieces, which must be barcoded and meet other preparation requirements specified by the Postal Service.

³ Rate applies to Automation-Presort category mail not mailed at 3-Digit, 5-Digit, or Carrier Route rates.

⁴ Rate applies to Automation-Presort category mail presorted to single or multiple three-digit ZIP Code destinations as specified by the Postal Service.

⁵ Rate applies to Automation-Presort category mail presorted to single or multiple five-digit ZIP Code destinations as specified by the Postal Service.

⁶ Rate applies to Automation-Presort category mail presorted to carrier routes specified by the Postal Service.

Schedule 223 Notes

¹ The 2-pound rate is charged for matter sent in a “flat rate” envelope provided by the Postal Service.

² Add [$8.25] $10.25 for each pickup stop.

³ EXCEPTION: Parcels that weigh less than 15 pounds but measure over 84 inches in length and girth combined, are charged with a minimum rate equal to that for a 15-pound parcel for the zone to which addressed.

Standard Mail
Rate Schedule [321.2A] 321A
| Current rate (cents) | Proposed rate (cents)
Regular Subclass Presort Category ¹
Letter Size:
Piece Rate:
Basic | 23.5 | 24.2
3/5-Digit | 20.7 | 22.5
Destination Entry Discount per Piece:
BMC | 1.6 | 1.7
SCF | 2.1 | 2.2
Non-Letter Size: ²
Piece Rate:
Minimum per Piece: ³
Basic | 30.4 | 31.1
3/5-Digit | 24.0 | 25.8
Destination Entry Discount per Piece:
BMC | 1.6 | 1.7
SCF | 2.1 | 2.2
Pound Rate: ³ | 67.7 | 66.1
Plus per Piece Rate:
Basic | 16.4 | 17.5
3/5-Digit | 10.0 | 12.2
Destination Entry Discount per Pound:
BMC | 7.9 | 8.3
SCF | 10.0 | 10.8

Schedule [321.2A] 321A Notes

¹ A fee of [$100.00] $125.00 must paid each 12-month period for each bulk mailing permit.

² Residual shape pieces are subject to a surcharge of [$0.10] $0.18 per piece. For parcel barcode discount, deduct $0.03 per piece.

³ Mailer pays either the minimum piece rate or the pound rate, whichever is higher.

Standard Mail
Rate Schedule [321.2B] 321B
| Current rate (cents) | Proposed rate (cents)
Regular Subclass Automation Category ¹
Letter Size: ²
Piece Rate:
Basic Letter ³ | 18.3 | 20.0
3-Digit Letter ⁴ | 17.6 | 19.3
5-Digit Letter ⁵ | 16.0 | 17.2
Destination Entry Discount per Piece:
BMC | 1.6 | 1.7
SCF | 2.1 | 2.2
Flat Size: ⁶
Piece Rate:
Minimum per Piece: ⁷
Basic Flat ⁸ | 24.5 | 26.7
3/5-Digit Flat ⁹ | 20.3 | 23.1
Destination Entry Discount per Piece:
BMC | 1.6 | 1.7
SCF | 2.1 | 2.2
Pound Rate: ⁷ | 67.7 | 66.1
Plus per piece Rate:
Basic Flat | 10.5 | 13.1
3/5-Digit Flat | 6.3 | 9.5
Destination Entry Discount per Pound:
BMC | 7.9 | 8.3
SCF | 10.0 | 10.8

Schedule [321.2B] 321B Notes

¹ A fee of [$100.00] $125.00 must be paid once each 12-month period for each bulk mailing permit.

² For letter-size automation pieces meeting applicable Postal Service regulations.

³ Rate applies to letter-size automation mail not mailed at 3-digit, 5-digit, or carrier route rates.

⁴ Rate applies to letter-size automation mail presorted to single or multiple three-digit ZIP Code destinations as specified by the Postal Service.

⁵ Rate applies to letter-size automation mail presorted to single or multiple five-digit ZIP Code destinations as specified by the Postal Service.

⁶ For flat-size automation mail meeting applicable Postal Service regulations.

⁷ Mailer pays either the minimum piece rate or the pound rate, whichever is higher.

⁸ Rate applies to flat-size automation mail not mailed at 3/5-digit rate.

⁹ Rate applies to flat-size automation mail presorted to single or multiple three- and five-digit ZIP Code destinations as specified by the Postal Service.

Standard Mail
Rate Schedule [321.3] 322
| Current rate (cents) | Proposed rate (cents)
Enhanced Carrier Route Subclass ¹
Letter Size:
Piece Rate:
Basic | 16.2 | 17.5
Basic Automated Letter ² | 15.6 | 16.3
High Density | 13.9 | 15.2
Saturation | 13.0 | 14.3
Destination Entry Discount per Piece:
BMC | 1.6 | 1.7
SCF | 2.1 | 2.2
DDU | 2.6 | 2.8
Non-Letter Size: ³
Piece Rate
Minimum per Piece: ⁴
Basic | 16.2 | 17.5
High Density | 15.1 | 15.4
Saturation | 14.0 | 14.8
Destination Entry Discount per Piece:
BMC | 1.6 | 1.7
SCF | 2.1 | 2.2
DDU | 2.6 | 2.8
Pound Rate: ⁴ | 66.3 | 58.4
Plus per piece Rate:
Basic | 2.5 | 5.5
High Density | 1.4 | 3.4
Saturation | 0.3 | 2.8
Destination Entry Discount per Pound:
BMC | 7.9 | 8.3
SCF | 10.0 | 10.8
DDU | 12.6 | 13.4

Schedule [321.3] 322 Notes

¹ A fee of [$100.00] $125.00 must be paid each 12-month period for each bulk mailing permit.

² Rate applies to letter-size automation mail presorted to routes specified by the Postal Service.

³ Residual shape pieces are subject to a surcharge of [$0.10] $0.15 per piece.

⁴ Mailer pays either the minimum piece rate or the pound rate, whichever is higher.

Standard Mail
Rate Schedule [321.4A] 323A
| Current rate (cents) | Proposed rate (cents)
Nonprofit Subclass Presort Category[ies] ¹
[(Full Rates)]
Letter Size:
Piece Rate
Basic | 16.9 | 15.9
3/5-Digit | 14.2 | 15.0
Destination Entry Discount per Piece:
BMC | 1.6 | 1.7
SCF | 2.1 | 2.2
Non-Letter Size: ²
Piece Rate:
Minimum per Piece: ³
Basic | 23.3 | 21.9
3/5-Digit | 16.5 | 17.5
Destination Entry Discount per Piece:
BMC | 1.6 | 1.7
SCF | 2.1 | 2.2
Pound Rate: ³ | 55.0 | 58.0
Plus per piece Rate:
Basic | 12.0 | 9.9
3/5-Digit | 5.2 | 5.5
Destination Entry Discount per Pound:
BMC | 7.9 | 8.3
SCF | 10.0 | 10.8

Schedule [321.4A] 323A Notes

¹ A fee of [$100.00] $125.00 must be paid once each 12-month period for each bulk mailing permit.

² Residual shape pieces are subject to a surcharge of [$0.10] $0.18 per piece. For parcel barcode discount, deduct $0.03 per piece.

³ Mailer pays either the minimum piece rate or the pound rate, whichever is higher.

Standard Mail
Rate Schedule [321.4B] 323B
| Current rate (cents) | Proposed rate (cents)
Nonprofit Subclass Automation Category[ies] ¹
[(Full Rates)]
Letter Size: ²
Piece Rate:
Basic Letter ³ | 11.9 | 12.9
3-Digit Letter ⁴ | 11.4 | 12.2
5-Digit Letter ⁵ | 9.3 | 10.1
Destination Entry Discount per Piece:
BMC | 1.6 | 1.7
SCF | 2.1 | 2.2
Flat Size: ⁶
Piece Rate:
Minimum per Piece: ⁷
Basic Flat ⁸ | 18.2 | 17.8
3/5-Digit Flat ⁹ | 14.4 | 15.8
Destination Entry Discount per Piece:
BMC | 1.6 | 1.7
SCF | 2.1 | 2.2
Pound Rate: ⁷ | 55.0 | 58.0
Plus per Piece Rate:
Basic Flat ⁸ | 6.9 | 5.8
3/5-Digit Flat ⁹ | 3.1 | 3.8
Destination Entry Discount per Pound:
BMC | 7.9 | 8.3
SCF | 10.0 | 10.8

Schedule [321.4B] 323B Notes

¹ A fee of [$100.00] $125.00 must be paid once each 12-month period for each bulk mailing permit.

² For letter-size automation pieces meeting applicable Postal Service regulations.

³ Rate applies to letter-size automation mail not mailed at 3-digit, 5-digit, or carrier route rates.

⁴ Rate applies to letter-size automation mail presorted to single or multiple three-digit ZIP Code destinations as specified by the Postal Service.

⁵ Rate applies to letter-size automation mail presorted to single or multiple five-digit ZIP Code destinations as specified by the Postal Service.

⁶ For flat-size automation mail meeting applicable Postal Service regulations.

⁷ Mailer pays either the minimum piece rate or the pound rate, whichever is higher.

⁸ Rate applies to flat-size automation mail not mailed at 3/5-digit rate.

⁹ Rate applies to flat-size automation mail presorted to single or multiple three-and five-digit ZIP Code destinations as specified by the Postal Service.

Standard Mail
Rate Schedule [321.5] 324
| Current rate (cents) | Proposed rate (cents)
Nonprofit Enhanced Carrier Route Subclass¹
[(Full Rates)]
Letter Size:
Piece Rate:
Basic | 9.9 | 11.3
Basic Automated Letter ² | 9.2 | 10.0
High Density | 7.8 | 9.0
Saturation | 7.2 | 8.4
Destination Entry Discount per Piece:
BMC | 1.6 | 1.7
SCF | 2.1 | 2.2
DDU | 2.6 | 2.8
Non-Letter Size: ³
Piece Rate:
Minimum per Piece: ⁴
Basic | 9.9 | 11.3
High Density | 9.2 | 9.7
Saturation | 8.4 | 9.2
Destination Entry Discount per Piece:
BMC | 1.6 | 1.7
SCF | 2.1 | 2.2
DDU | 2.6 | 2.8
Pound Rate: ⁴ | 29.0 | 37.0
Plus per Piece Rate:
Basic | 3.9 | 3.7
High Density | 3.2 | 2.1
Saturation | 2.4 | 1.6
Destination Entry Discount per Pound:
BMC | 7.9 | 8.3
SCF | 10.0 | 10.8
DDU | 12.6 | 13.4

Schedule [321.5] 324 Notes

¹ A fee of [$100.00] $125.00 must be paid each 12-month period for each bulk mailing permit.

² Rate applies to letter-size automation mail presorted to routes specified by the Postal Service.

³ Residual shape pieces are subject to a surcharge of [$0.10] $0.15 per piece.

⁴ Mailer pays either the minimum piece rate or the pound rate, whichever is higher.

Periodicals
Rate Schedule 421
| Postage rate unit | Current rate ³ (cents) | Proposed rate ³ (cents)
[Regular] Outside County Subclass 1, 2
Per Pound:
Nonadvertising Portion | Pound | 16.1 | 18.6
Advertising Portion: ¹¹
Delivery Office ⁴ | Pound | 15.5 | 18.0
SCF ⁵ | Pound | 17.8 | 21.0
1&2 | Pound | 21.5 | 24.7
3 | Pound | 22.9 | 26.3
4 | Pound | 26.3 | 30.2
5 | Pound | 31.6 | 36.1
6 | Pound | 37.1 | 42.3
7 | Pound | 43.8 | 49.9
8 | Pound | 49.5 | 56.3
Science of Agriculture:
Delivery Office | Pound | 11.6 | 13.5
SCF | Pound | 13.3 | 15.8
Zones 1&2 | Pound | 16.1 | 18.6
Per Piece:
Less Nonadvertising Factor ⁶ |  | 5.9 | 6.6
Required Preparation ⁷ | Piece | 29.4 | 31.8
Presorted to 3-digit | Piece | 25.3 | 27.4
Presorted to 5-digit | Piece | 19.7 | 22.2
Presorted to Carrier Route | Piece | 12.2 | 14.1
Discounts:
Prepared to Delivery Office ⁴ | Piece | 1.3 | 2.1
Prepared to SCF ⁵ | Piece | 0.7 | 1.2
High Density ⁸ | Piece | 1.9 | 2.5
Saturation ⁹ | Piece | 3.7 | 4.3
Automation Discounts for Automation Compatible Mail ¹⁰
From Required:
Prebarcoded letter size | Piece | 6.2 | 5.6
Prebarcoded flats | Piece | 4.6 | 3.2
From 3-Digit:
Prebarcoded letter size | Piece | 4.7 | 4.5
Prebarcoded flats | Piece | 3.9 | 2.7
From 5-Digit:
Prebarcoded letter size | Piece | 3.5 | 4.8
Prebarcoded flats | Piece | 2.9 | 2.8

Schedule 421 Notes

¹ [The rates in this schedule also apply to commingled nonsubscriber, non-requester, complimentary, and sample copies in excess of 10 percent allowance in regular-rate, nonprofit, and classroom periodicals.] The rates in this schedule also apply to Nonprofit (DMCS Section 422.2) and Classroom (DMCS Section 422.3) rate categories. These categories receive a 5 percent discount on all components of postage except advertising pounds. Moreover, the 5 percent discount does not apply to commingled nonsubscriber, nonrequester, complimentary, and sample copies in excess of the 10 percent allowance under DMCS sections 412.34 and 413.42, or to Science of Agriculture mail.

² Rates do not apply to otherwise [regular rate] Outside County mail that qualifies for the Within County rates in Schedule 423[.2].

³ Charges are computed by adding the appropriate per-piece charge to the sum of the nonadvertising portion and the advertising portion, as applicable.

⁴ Applies to carrier route (including high density and saturation) mail delivered within the delivery area of the originating post office.

⁵ Applies to mail delivered within the SCF area of the originating SCF office.

⁶ For postage calculations, multiply the proportion of nonadvertising content by this factor and subtract from the applicable piece rate.

⁷ Mail not eligible for carrier-route, 5-digit or 3-digit rates.

⁸ Applicable to high density mail, deducted from carrier route presort rate.

⁹ Applicable to saturation mail, deducted from carrier route presort rate.

¹⁰ For automation compatible mail meeting applicable Postal Service regulations.

¹¹ Not applicable to qualifying Nonprofit and Classroom publications containing 10 percent or less advertising content.

Periodicals
Rate Schedule 423[.2]
| Current rate ³ (cents) | Proposed rate ³ (cents)
Within County
[(Full Rates)]
Per Pound:
General | 13.3 | 14.5
Delivery Office ¹ | 10.7 | 11.8
Per Piece:
Required Presort | 9.5 | 9.9
Presorted to 3-digit | 8.8 | 9.2
Presorted to 5-digit | 8.0 | 8.4
Carrier Route Presort | 4.3 | 4.8
Per Piece Discount:
Delivery Office ² | 0.4 | 0.5
High Density (formerly 125 piece) ³ | 1.4 | 1.6
Saturation | 1.8 | 2.1
Automation Discounts for Automation Compatible Mail ⁴
From Required:
Prebarcoded Letter size | 4.9 | 5.0
Prebarcoded Flat size | 3.0 | 2.7
From 3-digit:
Prebarcoded Letter size | 4.4 | 4.4
Prebarcoded Flat size | 2.6 | 2.3
From 5-digit:
Prebarcoded Letter size | 3.9 | 3.9
Prebarcoded Flat size | 2.2 | 2.0

Schedule 423[.2] Notes

¹ Applicable only to carrier route (including high density and saturation) presorted pieces to be delivered within the delivery area of the originating post office.

² Applicable only to carrier presorted pieces to be delivered within the delivery area of the originating post office.

³ Applicable to high density mail, deducted from carrier route presort rate. Mailers also may qualify for this discount on an alternative basis as provided in DMCS section 423.[8]43.

⁴ For automation compatible pieces meeting applicable Postal Service regulations.

[Periodicals]
[Rate Schedule 423.3]
[Publications of Authorized Nonprofit Organizations]
[Delete Rate Schedule 423.3; see Rate Schedule 421, note 1]

[Periodicals]
[Rate Schedule 423.4]
[Classroom Publications]
[Delete Rate Schedule 423.4; Rate Schedule 421, note 1]

Schedule [322.1A] 521.2A Notes

¹ For nonmachinable Inter-BMC parcels, add [$1.69] $1.79 per piece.

² For each pickup stop, add [$8.25] $10.25.

³ For Origin Bulk Mail Center Discount, deduct [$0.57] $0.93 per piece.

⁴ For BMC Presort, deduct [$0.22] $0.23 per piece.

⁵ For Barcode[d] Discount, deduct $0.03 per piece.

⁶ See DMCS section [322.161] 521.61 for oversize Parcel Post.

⁷ Parcel Post pieces exceeding 84 inches in length and girth combined and weighing less than 15 pounds are subject to a rate equal to that for a 15 pound parcel for the zone to which the parcel is addressed.

Schedule [322.1B] 521.2B Notes

¹ For each pickup stop, add: [$8.25] $10.25.

² For Barcode[d] Discount, deduct $0.03 per piece.

³ See DMCS section [322.161] 521.61 for oversize Parcel Post.

⁴ Parcel Post pieces exceeding 84 inches in length and girth combined and weighing less than 15 pounds are subject to a rate equal to that for a 15 pound parcel for the zone to which the parcel is addressed.

⁵ For nonmachinable intra-BMC parcels, add $0.40 per piece.

Schedule [322.1C] 521.2C Notes

¹ For Barcode[d] Discount, deduct $0.03 per piece.

² See DMCS section [322.161]521.61 for oversize Parcel Post.

³ Parcel Post pieces exceeding 84 inches in length and girth combined and weighing less than 15 pounds are subject to a rate equal to that for a 15 pound parcel for the zone to which the parcel is addressed.

⁴ A fee of [$100.00] $125.00 must be paid each year for [DBMC, DSCF, and DDU] Parcel Select.

⁵ For nonmachinable DBMC parcels, add $0.45 per piece.

Schedule [322.1D] 521.2D Notes

¹ See DMCS section [322.161]521.61 for oversize Parcel Post.

² Parcel Post pieces exceeding 84 inches in length and girth combined and weighing less than 15 pounds are subject to a rate equal to that for a 15 pound parcel for the zone to which the parcel is addressed.

³ A fee of [$100.00] $125.00 must be paid each year for [DBMC, DSCF, and DDU] Parcel Select.

Schedule [322.1E] 521.2E Notes

¹ See DMCS section [322.161]521.61 for oversize Parcel Post.

² Parcel Post pieces exceeding 84 inches in length and girth combined and weighing less than 15 pounds are subject to a rate equal to that for a 15 pound parcel for the zone to which the parcel is addressed.

³ A fee of [$100.00] $125.00 must be paid each year for [DBMC, DSCF, and DDU] Parcel Select.

Schedule [322.3A] 522A Notes

¹ Includes both catalogs and similar Bound Printed Matter.

² For barcode[d] discount, deduct $0.03 per piece.

[Standard Mail] Package Services
Rate Schedule [322.3B] 522B
Current Per Piece: Zone | Current Per Piece: [Per Piece] Basic ³ | Current Per Piece: Carrier Route ² | Current Per Piece: Per Pound | Proposed Per Piece: Zone | Proposed Per Piece: [Per Piece] Basic ³ | Proposed Per Piece: Carrier Route ² | Proposed Per Piece: Per Pound
Bound Printed Matter Subclass
[Bulk] Basic Presort and Carrier Route Presort Rates ¹
(dollars)
Local | $0.54 | $0.463 | $0.028 | Local | N/A | N/A | N/A
1&2 | 0.72 | 0.643 | 0.051 | 1&2 | $0.905 | $0.828 | $0.064
3 | 0.72 | 0.643 | 0.073 | 3 | 0.905 | 0.828 | 0.092
4 | 0.72 | 0.643 | 0.112 | 4 | 0.905 | 0.828 | 0.138
5 | 0.72 | 0.643 | 0.171 | 5 | 0.905 | 0.828 | 0.209
6 | 0.72 | 0.643 | 0.233 | 6 | 0.905 | 0.828 | 0.286
7 | 0.72 | 0.643 | 0.307 | 7 | 0.905 | 0.828 | 0.376
8 | 0.72 | 0.643 | 0.371 | 8 | 0.905 | 0.828 | 0.450

Schedule [322.3B] 522B Notes

¹ Includes both catalogs and similar bound printed matter.

² Applies to mailings of at least 300 pieces presorted to carrier route as specified by the Postal Service.

³ For barcode[d] discount, deduct $0.03 per piece.

Package Services
Rate Schedule 522C
| DBMC Zones 1&2 | DBMC Zone 3 | DBMC Zone 4 | DBMC Zone 5 | DSCF | DDU
Bound Printed Matter Subclass
Destination Entry Basic Presort ¹
Proposed:
Per Piece | $0.843 | $0.843 | $0.843 | $0.843 | $0.659 | $0.608
Per Pound | 0.060 | 0.086 | 0.132 | 0.201 | 0.035 | 0.033

Schedule 522C Notes

1. For barcode discount, deduct $0.03 per piece. Barcode discount is not available for DDU and DSCF rates and DBMC mail entered at an ASF (except Phoenix, Arizona ASF).

Package Services
Rate Schedule 522D
| DBMC Zones 1&2 | DBMC Zone 3 | DBMC Zone 4 | DBMC Zone 5 | DSCF | DDU
Bound Printed Matter Subclass
Destination Entry Carrier Route Presort
Proposed:
Per Piece | $0.766 | $0.766 | $0.766 | $0.766 | $0.582 | $0.531
Per Pound | 0.060 | 0.086 | 0.132 | 0.201 | 0.035 | 0.033

[Standard Mail] Package Services
Rate Schedule[s 323.1 and 323.2] 523
| Current rates (cents) | Proposed rates (cents)
[Special and Library Rate] Media Mail Subclass[es]
[Schedule 323.1: Special]
First Pound:
Not Presorted ⁴ | 113 | 121
Level A Presort (5-digits)1 2 | 64 | 68
Level B Presort (BMC)1 3 4 | 95 | 99
Each additional pound through 7 pounds | 45 | 45
Each additional pound over 7 pounds | 28 | 30

Schedule [323.1] 523

¹ A fee of [$100.00] $125.00 must be paid once each 12-month period for each permit.

² For mailings of 500 pieces properly prepared and presorted to five-digit destination ZIP Codes.

³ For mailings of 500 or more pieces properly prepared and presorted to Bulk Mail Centers.

⁴ For Barcode[d] Discount, deduct $0.03.

[Standard Mail] Package Services
Rate Schedule[s 323.1 and 323.2] 524
| Current rates (cents) | Proposed rates (cents)
[Special and] Library Mail [Rate] Subclass[es]
[Schedule 323.2: Library]
First Pound:
Not Presorted ⁴ | 113 | 120
Level A Presort (5-digits)1 2 | 64 | 67
Level B Presort (BMC)1 3 4 | 95 | 98
Each additional pound through 7 pounds | 45 | 45
Each additional pound over 7 pounds | 28 | 30

Schedule [323.2] 524 Notes

¹ A fee of [$100.00] $125.00 must be paid once each 12-month period for each permit.

² For mailings of 500 pieces properly prepared and presorted to five-digit destination ZIP Codes.

³ For mailings of 500 or more pieces properly prepared and presorted to Bulk Mail Centers.

⁴ For Barcode[d] Discount, deduct $0.03.

Fee Schedule 911
Address Corrections
[Description] | Current fee | Proposed fee
Per manual correction | $0.50 | $0.60
Per automated correction | $0.20 | $0.20

Fee Schedule 912
| Current fee | Proposed fee
ZIP Coding Mailing Lists
Per thousand addresses | $70.00 | $73.00
Correction of Mailing Lists
|  | [Fee]
Per submitted address | $0.20 | $0.25
Minimum charge per list corrected | $7.00 | $7.50
Address Changes for Election Boards and Registration Commissions
|  | [Fee]
Per change of address | $0.17 | $0.24
Corrections Associated with Arrangement of Address Cards in Carrier Delivery Sequence
|  | [Fee]
Per correction | $0.20 | $0.25
Note: When rural routes have been consolidated or changed to another post office, no charge will be made for correction if the list contains only names of persons residing on the route or routes involved.

Fee Schedule 921
Post Office Boxes and Caller Service
Box Size ² Fee Group | 1 | 2 | 3 | 4 | 5
[Edit Part I of Fee Schedule 921 as follows:]
I. Post Office Boxes
Semi-annual Box Fees ¹
Current:
A | $30.00 | $46.00 | $80.00 | $151.00 | $261.00
B | 27.00 | 41.00 | 70.00 | 136.00 | 217.00
C | 22.00 | 32.00 | 57.00 | 97.00 | 162.00
D | 7.00 | 12.00 | 22.00 | 33.00 | 52.00
E | 0.00 | 0.00 | 0.00 | 0.00 | 0.00
Proposed:
B2 | 30.00 | 45.00 | 85.00 | 170.00 | 300.00
C3 | 27.50 | 40.00 | 75.00 | 150.00 | 250.00
C4 | 22.50 | 32.50 | 60.00 | 125.00 | 212.50
C5 | 19.00 | 27.50 | 50.00 | 87.50 | 150.00
D6 | 10.00 | 16.00 | 25.00 | 50.00 | 90.00
D7 | 8.50 | 13.00 | 22.50 | 40.00 | 65.00
E | 0.00 | 0.00 | 0.00 | 0.00 | 0.00
¹ A customer ineligible for carrier delivery may obtain a post office box at Group E fees, subject to administrative decisions regarding customer's proximity to post office.
² Box Size 1=under 296 cubic inches; 2=296-499 cubic inches; 3=500-999 cubic inches; 4=1000-1999 cubic inches; 5=2000 cubic inches and over.

| Current fee | Proposed fee
I. Key Duplication and Lock Changes:
Key duplication or replacement | N/A | $4.00
Post office box lock replacement | N/A | $10.00
III. Semi-annual Caller Service Fees | $275.00 | $375.00
[Fee Group]
[A $275]
[B $275]
[C $275]
[D $275]
[III.] IV. Annual Call Number Reservation Fee:
(All applicable Fee Groups) | $36.00 | $30.00

Fee Schedule 931
Business Reply Mail
| Current fee | Proposed fee
Active business reply advance deposit account:
Per piece:
Qualified (without Quarterly fee) | $0.05 | $0.06
Qualified (with Quarterly fee) | N/A | $0.03
Nonletter-size, using weight averaging | $0.01 | $0.01
Other | $0.08 | $0.10
Payment of postage due charges if active business reply mail advance deposit account not used:
Per piece | $0.30 | $0.35
Annual License and Accounting Fees:
Accounting [F]fee for [A]advance [D]deposit [A]account | $300.00 | $375.00
Permit fee (with or without [A]advance [D]deposit [A]account) | $100.00 | $125.00
Monthly Fees for customers using weight averaging for nonletter-size business reply | $600.00 | $600.00
Qualified BRM Quarterly Fee | N/A | $850.00

Fee Schedule 932
Merchandise Return
| Current fee | Proposed fee
[Per Transaction]
[Shipper must have an advance deposit account] | [$0.30]
[(see DMCS Schedule 1000)]
Annual License and Accounting Fees:
Permit fee | $100.00 | $125.00
Accounting fee for advance deposit account | $N/A | $375.00

Fee Schedule 933
On-Site Meter Service [Setting]
| Current fee | Proposed fee
[First Meter By appointment] | [$27.50]
[Unscheduled request] | [$31.00]
Meter Service (per employee) | $27.50/$31.00 | $31.00
[Additional meters] | $4.00 | NA
Meters reset and/or examined (per meter) | NA | $4.00
Checking meter in or out of service (per meter) | $8.50 | $4.00

Fee Schedule 934
[Reserved]

Fee Schedule 935
Bulk Parcel Return Service
| Current fee | Proposed fee
Per Returned Piece | $1.75 | $1.65
Annual License and Accounting Fees:
Permit fee | $100.00 | $125.00
Accounting fee for advance deposit account | N/A | $375.00

Fee Schedule 936
Shipper Paid Forwarding
| Current fee | Proposed fee
Annual accounting fee for advance deposit account | N/A | $375.00

Fee Schedule 941
Certified Mail
[Description] | Current fee (in addition to postage) | Proposed fee (in addition to postage)
Per piece [Service (per mailpiece)] | $1.40 | $2.10

Declared value of Article ¹ | Current fee (in addition to postage) | Proposed fee (in addition to postage)
25,000.01 to 1 million | $20.50—plus 55 cents for each $1,000 (or fraction thereof) over $25,000 | $27.00—plus 75 cents for each $1,000 (or fraction thereof) over $25,000.
Over $1 million to 15 million | $556.75—plus 55 cents for each $1,000 (or fraction thereof) over $1 million | $758.25—plus 75 cents for each $1,000 (or fraction thereof) over $1 million.
Over 15 million | $8,256.75—plus amount determined by the Postal Service based on weight, space and value | $11,258.25—plus amount determined by Postal Service based on weight, space and value.
¹ Articles with a declared value of more than $25,000 can be registered, but compensation for loss or damage is limited to $25,000.

Fee Schedule 943
Insurance
Express Mail Insurance
Document reconstruction | Current fee (in addition to postage) | Proposed fee (in addition to postage)
Coverage: |
$0.01 to $500 | No charge | No charge.
Merchandise:
$0.01 to $500 | (in addition to postage) no charge | (in addition to postage) no charge.
500.1 to 5000 | $0.95 for each $100 (or fraction thereof) over $500 in value | $1.00 for each $100 (or fraction thereof) over $500 in value.

General Insurance
| Current fee¹ (in addition to postage) | Proposed fee¹ (in addition to postage)
Coverage:
$0.01 to $50 | $0.85 | $1.35.
50.01 to 100 | $1.80. | $2.10.
100.01 to 5000 | $1.80 plus 0.95 for each $100 (or fraction thereof) over $100 in coverage | $2.10 plus $1.00 for each $100 (or fraction thereof) over $100 in coverage.
¹ For bulk insurance coverage between $0.01 to $50.00, deduct [$0.40] 0.75 per piece.
¹ For bulk insurance coverage between $50.01 to $5,000.00, deduct [$0.40] $1.00 per piece.

Fee Schedule 944
Collect on Delivery
Amount to be collected, or insurance coverage desired | Fee (in addition to postage): Current | Fee (in addition to postage): Proposed
$0.01 to $50 | $4.00 | $4.50
50.01 to 100 | $5.00 | $5.50
100.01 to 200 | $6.00 | $6.50
200.01 to 300 | $7.00 | $7.50
300.01 to 400 | $8.00 | $8.50
400.01 to 500 | $9.00 | $9.50
500.01 to 600 | $10.00 | $10.50
600.01 to 700 | N/A | $11.50
700.01 to 800 | N/A | $12.50
800.01 to 900 | N/A | $13.50
900.01 to 1000 | N/A | $14.50
Notice of nondelivery of COD | $3.00 | $3.00
Alteration of COD charges or designation of new addressee | $3.00 | $3.00
Registered COD | $4.00 | $4.00

Fee Schedule 945
Return Receipts
| Current fee (in addition to postage) | Proposed fee (in addition to postage)
Receipt [Issued] requested at [T]time of [M]mailing ¹
Items other than [M]merchandise | $1.25 | $1.50
Merchandise (without another special service | $1.40 | $2.35
Receipt [Issued] requested after [M]mailing ² | $7.00 | $3.50
¹ This receipt shows the signature of the person to whom the mailpiece was delivered, the date of delivery and the delivery address, if such address is different from the address on the mailpiece.
² This receipt shows to whom the mailpiece was delivered and the date of delivery.

Fee Schedule 946
Restricted Delivery
| Current fee (in addition to postage) | Proposed fee (in addition to postage)
Per Piece | $2.75 | $3.20

Fee Schedule 947
Certificate of Mailing
| Current fee (in addition to postage) | Proposed fee (in addition to postage)
Individual Pieces:
Original certificate of mailing for listed pieces of all classes of ordinary mail (per piece) | $0.60 | $0.75
Three or more pieces individually listed in a firm mailing book or an approved customer provided manifest (per piece) | $0.25 | $0.25
Each additional copy of original certificate of mailing or original mailing receipt for registered, insured, certified, and COD mail (each copy) | $0.60 | $0.75
Bulk Pieces:
Identical pieces of First-Class and [Regular, Enhanced Carrier Route, Nonprofit, and Nonprofit Enhance Carrier Route] Standard Mail paid with ordinary stamps, precanceled stamps, or meter stamps are subject to the following fees:
Up to 1,000 pieces (one certificate for total number) | $3.00 | $3.50
Each additional 1,000 pieces or fraction | $0.40 | $0.40
Duplicate copy | $0.60 | $0.75

Fee Schedule 948
Delivery Confirmation
| Current fee (in addition to postage) | Proposed fee (in addition to postage)
Used in Conjunction with Priority Mail:
Electronic | $0.00 | $0.00
Manual | $0.35 | $0.40
Used in Conjunction with Parcel Post, Bound Printed Matter, Library Mail, and [Special Standard] Media Mail:
Electronic | $0.25 | $0.25
Manual | $0.60 | $0.65
Used in Conjunction with Regular and Nonprofit Standard Mail Electronic | N/A | $0.25

[add new Fee Schedule 949]

Fee Schedule 949
Signature Confirmation
| Proposed fee (in addition to postage)
Used in Conjunction with Priority Mail:
Electronic | $1.25
Manual | $1.75
Used in Conjunction with Parcel Post, Bound Printed Matter, Library Mail, and Media Mail:
Electronic | $1.25
Manual | $1.75

Fee Schedule 951
Parcel Air Lift
| Current fee (in addition to parcel post postage) | Proposed fee (in addition to parcel post postage)
Up to 2 pounds | $0.40 | $0.40
Over 2 up to 3 pounds | $0.75 | $0.75
Over 3 up to 4 pounds | $1.15 | $1.15
Over 4 pounds | $1.55 | $1.55

Fee Schedule 952
Special Handling
| Current fee (in addition to postage) | Proposed fee (in addition to postage)
Not more than 10 pounds | $5.40 | $5.40
More than 10 pounds | $7.50 | $7.50

Fee Schedule 961
Stamped Envelopes
| Current fee (in addition to postage) | Proposed fee (in addition to postage)
[Replace Fee Schedule 961 with the following:]
Single Sale—Basic | $0.07 | $0.08
Single Sale—Special | $0.08 | $0.09
Household (50): 6¾ through 10 size:
Basic | $3.00/$3.25 | $3.50
Special | $3.50 | $4.50
BULK (500) 6¾ size:
Plain Basic | $9.50/$8.50 | $12.00
Printed Basic | $14.00 | $17.00
BULK (500) size > 6¾ through 10 size
Plain Basic | $12.00/$11.50 | $14.00
Printed Basic | $15.00 | $20.00
Plain Special | $15.50 | $19.00
Printed Special | $19.00 | $25.00
Note: “Special” includes all envelopes with patched in indicia.

Fee Schedule 962
Stamped Cards
| Current fee (in addition to postage) | Proposed fee (in addition to postage)
Stamped Card | $0.01 | $0.02
Doubled Stamped Card | $0.02 | $0.04

Fee Schedule 971
Money Orders
| Current fee | Proposed fee
Domestic—$0.01 to $700 | $0.80 | $0.90
APO-FPO—$0.01 to $700 | $0.30 | $0.35
Inquiry Fee, which includes the issuance of copy of a paid money order | $2.75 | $3.00

Schedule 981
Mailing Online
Feature | Fee
Paper (per sheet):
8½ × 11 | 1.25(P1).
8½ × 14 | 1.25(P2).
11 × 17 | 1.25(P3).
Printing (per impression):
Simplex (8½ × 11) | 1.25(P4 + 0.1¢).
Simplex (8½ × 14) | 1.25(P5 + 0.1¢).
Duplex (8½ × 11) | 1.25(P6 + 0.1¢).
Duplex (8½ × 14) | 1.25(P7 + 0.1¢).
Spot Color (per impression) | 1.25(P8).
Finishing:
Folding (per fold) | 1.25(P9).
Stapling (per staple) | 1.25(P10).
Saddle Stitch (per finished piece) | 1.25(P11).
Tape Binding (8½ × 11) (per finished piece) | 1.25(P12).
Tape Binding (8½ × 14) (per finished piece) | 1.25(P13).
Applying Tabs to Self Mailer | 1.25(P14).
Envelopes:
#10 envelope | 1.25(P15).
Flat envelope | 1.25(P16).
Inserting (per envelope):
#10 envelope | 1.25(P17).
Flat envelope | 1.25(P18).
Note: PX represents contractual costs, for feature x, that the Postal Service will pay based on the Mailing Online printer contract between Vestcom International, Inc. and the United States Postal Service. The market test fees expire in accordance with the provisions in section 981.51.

Schedule 1000
| Current fee | Proposed fee
First-Class Presorted Mailing | $100.00 | $125.00
Periodicals:
A. Original Entry | $305.00 | $350.00
B. Additional Entry | $50.00 | $50.00
C. Re-entry | $50.00 | $40.00
D. Registration for News Agents | $50.00 | $40.00
Regular, Enhanced Carrier Route, Nonprofit and Nonprofit Enhanced Carrier Route Standard Mail Bulk Mailing | $100.00 | $125.00
Parcel Select[Post: Destination BMC, SCF, and DDU] | $100.00 | $125.00
Bound Printed Matter: Destination BMC, SCF, and DDU | N/A | $125.00
[Special and Library Standard Mail Presorted Mailing] | [$100.00]
Media Mail Presorted Mailing | $100.00 | $125.00
Library Mail Presorted Mailing | $100.00 | $125.00
Authorization to Use Permit Imprint | $100.00 | $125.00
[Prepaid Reply Mail Permit] [(see Fee Schedule 931)]
Business Reply Mail Permit (see Fee Schedule 931)
Merchandise Return Permit (see Fee Schedule 932)
[Authorization to Use] Bulk Parcel Return Service Permit (see Fee Schedule 935)

[FR Doc. 00-21426 Filed 8-24-00; 8:45 am]

BILLING CODE 7715-01-P